DEPARTMENT OF TRANSPORTATION

Federal Aviation Administration

Notice of Opportunity for Public Comment on Disposal of 2.96 Acres of Airport Land at Laconia Municipal Airport in Gilford, NH

AGENCY: Federal Aviation Administration (FAA), DOT.

ACTION: Request for public comments.

SUMMARY: The FAA is considering a request from the Laconia Airport Authority in Gilford, NH, to dispose of 2.96 acres of airport land that is not required for aviation purposes at Laconia Municipal Airport.

The subject parcel has been identified as property no longer needed for aviation use by the Laconia Airport Authority (LAA). The property, Lot 13, located along the east side of Lily Pond Road (NH Route 11C) in the Town of Gilford, is located on the northerly side of the airport's existing business park. The intended use of the property is for boat storage, which is a compatible use adjacent to the airport. Given the location of the parcel, the disposal of this property will have no effect on aviation land nor future development opportunities for the airport. The proceeds of the disposal will be placed in the airport's account and to be used for the operation and maintenance of the airport. Appropriate avigation easements will be placed on the property to ensure compatibility with the airport and the airport's airspace.

DATES: Comments must be received on or before January 3, 2017.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on November 17, 2016.
Gail B. Lattrell,
Manager, ANE-630.

[FR Doc. 2016-28544 Filed 11-30-16; 8:45 am]

BILLING CODE 4910-13-P